DEPARTMENT OF TRANSPORTATION

Maritime Administration

[Docket No. MARAD-2019-0093]

Deepwater Port License Application: Texas GulfLink LLC—Final Environmental Impact Statement

AGENCY: Maritime Administration, U.S. Department of Transportation.

ACTION: Notice of availability; request for comments.

SUMMARY: The Maritime Administration (MARAD) and the U.S. Coast Guard (USCG) announce the availability of the Final Environmental Impact Statement (FEIS) for the Texas GulfLink LLC (GulfLink) deepwater port license application for the export of oil from the United States to nations abroad. The GulfLink deepwater port license application describes a project that would be located approximately 26.2 nautical miles off the coast of Brazoria County, Texas. Publication of this notice announces a 45-day comment period ending on Monday, August 19, 2024, requests public participation in the final environmental impact review process and provides information on how to participate in the final environmental impact review process.

DATES: MARAD and USCG will hold one Final Hearing in connection with the GulfLink Application. The time and location for the Final Hearing will be published in a future notice. Public comments on the FEIS must be submitted to www.regulations.gov or the Federal Docket Management Facility as detailed in the ADDRESSES section below by the close of business on Monday, August 19, 2024.

ADDRESSES: Comments on the FEIS must be submitted to the U.S. Department of Transportation's Docket Management Facility or online to www.regulations.gov under docket number MARAD-2019-0093. The address of the Docket Management Facility is as follows: U.S. Department of Transportation, MARAD-2019-0093, 1200 New Jersey Avenue SE, West Building, Room W12-140, Washington, DC 20590. Instructions are listed in the Public Participation section of this Notice.

FOR FURTHER INFORMATION CONTACT: Mr. Patrick W. Clark, Project Manager, USCG, telephone: 202-372-1358, email: DeepwaterPorts@USCG.mil; or Dr. Linden Houston, Transportation Specialist, Office of Deepwater Ports and Port Conveyance, MARAD, telephone: 202-366-4839, email: Linden.Houston@dot.gov.

Please include “MARAD-2019-0093, GulfLink Comment” in the subject line of the message. For written comments and other material submissions, please follow the directions under the “How do I submit comments?” question in the Public Participation section of this notice.

SUPPLEMENTARY INFORMATION:

Prior Federal Actions

On May 30, 2019, MARAD and USCG received a license application from GulfLink for all Federal authorizations required for a license to construct, own, and operate a deepwater port for the export of oil. The proposed deepwater port would be in Federal waters approximately 26.6 nautical miles off the coast of Brazoria County, Texas. Texas was designated as the ACS for the GulfLink license application.

A Notice of Application that summarized the GulfLink Deepwater Port License Application was published in the Federal Register on June 26, 2019 (84 FR 30298). A Notice of Intent to Prepare an Environmental Impact Statement (EIS) and Notice of Public Scoping Meeting was published in the Federal Register on July 3, 2019 (84 FR 32008). A public scoping meeting in connection with the evaluation of the GulfLink license application was held in Lake Jackson, Texas on July 17, 2019. The transcript of the scoping meeting is included on the public docket located at www.regulations.gov/document/MARAD-2019-0093-0047. A Federal Register Notice was published on August 14, 2019 (84 FR 40476) to extend the public scoping comment period to August 30, 2019.

MARAD and USCG held three virtual public comment meetings to receive comments on the Draft Environmental Impact Statement (DEIS). A Notice of Availability for the DEIS and Notice of Public Meeting was published in the Federal Register on November 27, 2020 (85 FR 76157). The first two virtual public comment meetings were held on December 16, 2020, and December 17, 2020. The public comment period for these meetings began on November 27, 2020, and a Federal Register Notice was published on December 21, 2020 (85 FR 83142) to extend the comment period to January 22, 2021. Transcripts of these DEIS virtual public comment meetings are provided on the public docket at www.regulations.gov/document/MARAD-2019-0093-0318, www.regulations.gov/document/MARAD-2019-0093-0319, and www.regulations.gov/document/MARAD-2019-0093-2839. A Notice of Availability and Notice of Virtual Public Meeting was published in the Federal Register on September 24, 2021 (86 FR 53144). The Federal agencies held a third virtual DEIS public comment meeting to receive comments on the DEIS. The DEIS public meeting was held virtually on October 14, 2021. The purpose of the October 14, 2021, virtual public meeting was to reopen the public comment period for the DEIS and to provide affected communities, including Limited English Proficient persons, further opportunities to review and comment on the document. The transcripts from the third DEIS public comment meeting are included on the public docket at www.regulations.gov/document/MARAD-2019-0093-2853.

After the publication of the DEIS, GulfLink revised its deepwater license application in response to ongoing consultation with regulatory agencies and subsequently refined the design of the proposed deepwater port by adding a vapor control system into the design and operation of the proposed GulfLink deepwater port. A Notice of Availability; Notice of Virtual Public Meeting; Request for Comments for the Supplemental Draft Environmental Impact Statement (SDEIS) and was published in the Federal Register on September 30, 2022 (87 FR 59487) in response to proposed changes to the GulfLink deepwater port. The public meeting was held virtually on October 18, 2022. The transcripts of the SDEIS public comment meetings are also included on the public docket at www.regulations.gov/document/MARAD-2019-0093-3097 and www.regulations.gov/document/MARAD-2019-0093-3098.

This Notice of Availability incorporates the aforementioned Federal Register notices by reference.

Summary of the License Application

GulfLink is proposing to construct, own, and operate a deepwater port terminal in the Gulf of Mexico to export domestically produced crude oil. Use of the deepwater port would include the loading of various grades of crude oil at flow rates of up to 85,000 barrels per hour (bph). The GulfLink deepwater port would allow for up to two Very Large Crude Carriers (VLCCs) or other crude oil carriers to moor at single point mooring (SPM) buoys and connect with the deepwater port via floating connecting crude oil hoses and a floating vapor recovery hose. The maximum frequency of loading VLCCs or other crude oil carriers would be one million barrels per day, 365 days per year.

The overall project would consist of offshore and marine components as well as onshore components as described below.

The GulfLink deepwater port offshore and marine components would consist of the following:

An Offshore Platform: One fixed offshore platform with piles in Outer Continental Shelf Galveston Area Lease Block GA-423, 26.6 nautical miles off the coast of Brazoria County, Texas, in a water depth of approximately 104 feet. The fixed offshore platform would have four decks comprised of personal living space, pipeline metering, a surge system, a pig receiving station, generators, lease automatic custody transfer unit, oil displacement prover loop, sample system, radar tower, electrical and instrumentation building, portal cranes, a hydraulic crane, an Operations/Traffic Room, and helicopter deck.

One 42-inch outside diameter, 28.1-nautical-mile long crude oil pipeline would be constructed from the shoreline crossing in Brazoria County, Texas, to the GulfLink deepwater port for crude oil delivery. This pipeline would connect the proposed onshore Jones Creek Terminal described below to the offshore platform.

The fixed offshore platform is connected to VLCC tankers for loading by two separate 42-inch diameter departing pipelines. Each pipeline will depart the fixed offshore platform, carrying the crude oil to a Pipeline End Manifold (PLEM) in approximately 104 feet of water depth located 1.25 nautical miles from the fixed offshore platform. Each PLEM is then connected to a Single Point Mooring (SPM) Buoy through two 24-inch cargo hoses. Two 24-inch floating cargo hoses will connect each SPM Buoy to the VLCC (or other crude oil carrier type). SPM Buoy 1 is positioned in Outer Continental Shelf Galveston Area Lease Block GA-423 and SPM Buoy 2 is positioned in Outer Continental Shelf Galveston Area Lease Block GA-A36.

Use of a dynamically positioned third-party Offshore Support Vessel, equipped with a vapor processing system to control the release of vapor emissions during the cargo loading operations of the proposed GulfLink deepwater port.

Onshore storage and supply components for the GulfLink deepwater port would consist of the following:

An Onshore Storage Terminal: The proposed Jones Creek Terminal would be in Brazoria County, Texas, on approximately 319 acres of land, consisting of eight above-ground storage tanks, each with a working storage capacity of 708,168 barrels, for a total onshore storage capacity of approximately 5,655,344 million barrels. The facility can accommodate four additional tanks, bringing the total to twelve tanks or 8,498,016 million barrels of storage capacity.

The Jones Creek Terminal also would include: Six electric-driven mainline crude oil pumps; three electric-driven booster crude oil pumps; one crude oil pipeline pig launcher; one crude oil pipeline pig receiver; two measurement skids for measuring incoming crude oil—one skid located on the Department of Energy's Bryan Mound facility, and one skid installed for the outgoing crude oil barrels leaving the tank storage to be loaded on the VLCC; and ancillary facilities to include an operations control center, electrical substation, offices, and warehouse building.

Two onshore crude oil pipelines would be constructed to support the GulfLink deepwater port and include the following:

One proposed incoming 9.1-statute mile long, 36-inch outside diameter pipeline connected to a leased 40-inch ExxonMobil pipeline originating at the Department of Energy's Bryan Mound facility with connectivity to the Houston market.

One proposed outgoing 12.1-statute mile long, 42-inch outside diameter pipeline connecting the Jones Creek Terminal to the shore crossing, where the offshore portion of this pipeline begins and supplies the proposed offshore GulfLink deepwater port.

As previously stated, the purpose of this notice is to announce the availability of the FEIS and the public comment period. Comments can be submitted through the Federal docket website: www.regulations.gov under docket number MARAD-2019-0093.

Purpose of the Final Environmental Impact Statement

The purpose of the FEIS is to analyze the direct, indirect, and cumulative environmental impacts of the proposed action, and to identify and analyze environmental impacts of a reasonable range of alternatives. The FEIS is currently available for public review and comment at the Federal docket website: www.regulations.gov under docket number MARAD-2019-0093.

Request for Comments

You are encouraged to provide comments on the proposed action and the environmental impact analysis contained in the FEIS for the proposed GulfLink deepwater port. These comments will inform MARAD's Record of Decision for the GulfLink deepwater license application. We encourage you to review the information on the project's docket located online at www.regulations.gov under docket number MARAD-2019-0093. It is preferred that comments be submitted electronically.

Please see the information in the “Public Participation” section below on how to properly submit comments. All comments submitted to the docket via www.regulations.gov or delivered to the Federal Docket Management Facility will be posted, without change, to the Federal Docket Management Facility website (www.regulations.gov) and will include any personal information you provide. Therefore, submitting such information makes it public. You may wish to read the Privacy and Use Notice available on the www.regulations.gov website and the Department of Transportation (DOT) Privacy Act Notice that appeared in the Federal Register on April 11, 2000 (65 FR 19477), see Privacy Act. You may view docket submissions at the DOT Docket Management Facility or electronically at the www.regulations.gov website.

Public Participation

How do I prepare comments?

To ensure that your comments are correctly filed in the Docket, please include the docket number (MARAD-2019-0093) shown at the beginning of this document in your comments. If you are submitting comments electronically as a .pdf (Adobe Acrobat) File, MARAD and USCG ask that the documents be submitted using the Optical Character Recognition (OCR) process, thus allowing the agencies to search and copy certain portions of your submissions.

Please note that pursuant to the Data Quality Act, for substantive data to be relied upon and used by the agency, it must meet the information quality standards set forth in the Office of Management and Budget (OMB) and Department of Transportation (DOT) Data Quality Act guidelines. Accordingly, we encourage you to consult the guidelines in preparing your comments. OMB's guidelines may be accessed at www.whitehouse.gov/omb/fedreg/reproducible.html. DOT's guidelines may be accessed at www.bts.gov/programs/statistical_policy_and_research/data_quality_guidelines.

How do I submit comments?

You may submit comments for the GulfLink deepwater license application (identified by DOT Docket Number MARAD-2019-0093) by any one of the following methods:

Mail or Hand Delivery: The Docket Management Facility is in the West Building, Ground Floor of the U.S. Department of Transportation. The Docket Management Facility location address is U.S. Department of Transportation, MARAD-2019-0093, 1200 New Jersey Avenue SE, West Building, Room W12-140, Washington, DC 20590. Due to flexible work schedules in response to COVID-19, call 202-493-0402 to determine facility hours prior to hand delivery.

Federal eRulemaking Portal: Go to www.regulations.gov. Search “MARAD-2019-0093” and follow the instructions for submitting comments.

Note: If you mail or hand-deliver your comments, we recommend that you include your name and a mailing address, an email address, and/or a telephone number on a cover page so that we can contact you if we have questions regarding your submission. All submissions received must include the agency name and specific docket number to ensure your comment is filed in the appropriate docket. All comments received will be posted without change to the docket at www.regulations.gov, including any personal information provided.

What will happen if I submit comments in any other manner?

Comments that are not submitted directly to the Docket Management Facility using the methods specified and outlined within this Federal Register notice may not be considered.

How long do I have to submit comments?

We are providing a comment period for the public to submit comments, which begins with the publication of this Federal Register Notice and ends on Monday, August 19, 2024.

How can I be sure that my comments were received?

If you wish for Docket Management to notify you upon its receipt of your comments, enclose a self-addressed, stamped postcard in the envelope containing your comments. Upon receiving your comments, Docket Management will return the postcard by mail.

Will the agency consider late comments?

No. MARAD and USCG will consider all substantive comments that Docket Management receives before the close of business on the comment closing date indicated above under DATES.

How can I read the comments submitted by other people?

You may read the comments received by Docket Management at the address given above under ADDRESSES. The hours of the Docket Management Unit are indicated above in the same location. You may also see the comments on the internet. To read the comments on the internet, go to www.regulations.gov. Search using “MARAD-2019-0093” and follow the online instructions.

Privacy Act

Anyone can search the electronic form of all comments received into any of our dockets by the name of the individual submitting the comment (or signing the comment if submitted on behalf of an association, business, labor union, etc.). For information on DOT's compliance with the Privacy Act, visit www.transportation.gov/privacy.

(Authority: 33 U.S.C. 1501, et seq.; 49 CFR 1.93(h))

By Order of the Maritime Administrator.
T. Mitchell Hudson, Jr.,
Secretary, Maritime Administration.

[FR Doc. 2024-14370 Filed 7-3-24; 8:45 am]

BILLING CODE 4910-81-P